DEPARTMENT OF TRANSPORTATION

Federal Transit Administration

49 CFR Part 633

[Docket No. FTA-2009-0030]

RIN 2132-AA92

Capital Project Management

AGENCY: Federal Transit Administration (FTA), DOT.

ACTION: Advance Notice of Proposed Rulemaking; extension of comment period.

SUMMARY: The Federal Transit Administration (FTA) is extending the public comment period by sixty (60) days for its Advance Notice of Proposed Rulemaking; request for comments. Additionally, FTA hereby provides notice that it intends to host two Webinars to discuss the Advance Notice of Proposed Rulemaking.

DATES: The comment period for the proposed rule published September 10, 2009 (74 FR 46515), is extended. Comments must be received no later than January 8, 2010. FTA will host two Webinar meetings: Tuesday, November 17, 2009, from 2 to 4 p.m. Eastern; and Thursday, December 3, 2009, from 2 p.m. to 4 p.m. Eastern.

ADDRESSES:

I. Public Comments

You may submit comments by one of the following methods.

• Federal e-Rulemaking Portal: http://www.regulations.gov. Follow the online instructions for submitting comments.

• Fax: 1-202-493-2251.

• United States Post or Express Mail: United States Department of Transportation, Docket Operations, West Building Ground Floor, Room W12-140, 1200 New Jersey Avenue, SE., Washington, DC 20590.

• Hand Delivery: United States Department of Transportation, West Building, 1200 New Jersey Avenue, SE., Washington, DC 20590, between 9 a.m. and 5 p.m. Eastern, Monday through Friday, except Federal holidays.

Instructions: You must include the agency name (Federal Transit Administration), and Docket number (FTA-2009-0030) or Regulatory Identification Number (RIN 2132-AA92) for this rulemaking at the beginning of your comments. All comments received will be posted, without change and including any personal information provided, to www.regulations.gov and http://dms.dot.gov., where they will be available to Internet users. Please see the Privacy Act.

You should submit two copies of your comments if you submit them by mail. If you wish to receive confirmation that FTA received your comments, you must include a self-addressed, stamped postcard. Due to security procedures in effect since October 2001 regarding mail deliveries, mail received through the U.S. Postal Service may be subject to delays. Parties submitting comments should consider using an express mail firm to ensure the prompt filing of any submissions not filed electronically or by hand.

For access to the DOT docket to read materials relating to this notice, please go to http://dms.dot.gov at any time or the Docket Management System.

II. Public Meetings

FTA will host two Webinar meetings: Tuesday, November 17, 2009, from 2 to 4 p.m. Eastern; and Thursday, December 3, 2009, from 2 p.m. to 4 p.m. Eastern.

FOR FURTHER INFORMATION CONTACT: For program questions, please contact Aaron C. James, Sr. at (202) 493-0107 or aaron.james@dot.gov, or Carlos M. Garay at (202) 366-6471 or carlos.garay@dot.gov. For legal questions, please contact Jayme L. Blakesley at (202) 366-0304 or jayme.blakesley@dot.gov. The principal office of FTA is located at 1200 New Jersey Avenue, SE., Washington, DC 20590. Office hours are from 8:30 a.m. to 5 p.m., Monday through Friday, except Federal holidays.

SUPPLEMENTARY INFORMATION:

I. Background

On September 10, 2009 (74 FR 46515), FTA issued an Advance Notice of Proposed Rulemaking (ANPRM) to start the process of revising its Project Management Oversight rule at 49 CFR Part 633. This Project Management rulemaking emphasizes a set of standards and principles for sound project management that will affect all FTA-funded fixed guideway capital projects and major capital projects. Specifically, FTA seeks to restructure the current Part 633 to incorporate the best practices in the transit industry with respect to reasonable project management performance measures. When final, this project management rule should articulate the criteria and skills expectations necessary to ensure a project sponsor's successful implementation of a fixed guideway capital project, including a major capital project. Also, the new Part 633 will be updated to reflect oversight tools and methodologies that have been developed since the original rule went into effect. Initially, FTA established a sixty (60) day public comment period for its ANPRM, with a closing date of November 9, 2009. At the request of several interested parties, however, FTA has chosen to extend the comment period for two months and to host two Webinars for the purpose of answering questions about the ANPRM.

II. Extension of Public Comment Period

The Federal Transit Administration (FTA) hereby provides notice that it is extending the public comment period for its Advance Notice of Proposed Rulemaking by approximately sixty (60) days. Comments must be received no later than January 8, 2010.

III. Public Meeting via Webinar

A. Notice

FTA hereby provides notice that it will be holding two public meetings, via webinar, to discuss the subject Advance Notice of Proposed Rulemaking. Through the webinar meetings, FTA will answer questions from interested parties. However, FTA notes that the webinar meetings will be for informational purposes only. In order to be fully considered, all comments must be submitted in writing according to the procedures outlined above. FTA encourages all interested parties to participate in the webinar meetings. The meetings are open to the public on a space-available basis. There is no cost to attend. Details will be published on FTA's web site at http://www.dot.fta.gov.

B. Agenda and Format

FTA intends to lead a discussion of the following subjects at the Webinar meetings: (1) The definition of “major capital project,” (2) the definition of “technical capacity and capability,” (3) principles and requirements for fixed guideway capital projects (4) project management plans, (5) FTA oversight of fixed guideway and major capital projects, (6) any other related subjects. The first webinar will focus primarily on project management (topics 1-4 above). The second webinar will focus on FTA oversight.

C. Registration

FTA requests all parties interested in attending the Webinar meeting to RSVP for the event with Carlos M. Garay at (202) 366-6471 or carlos.garay@dot.gov. All RSVPs for the November 17, 2009, Webinar must be received by November 13, 2009. RSVPs for the December 3, 2009, Webinar must be received by November 20, 2009.

Notice of Meeting

FTA will host two Webinar meetings: Tuesday, November 17, 2009, from 2 to 4 p.m. Eastern; and Thursday, December 3, 2009, from 2 p.m. to 4 p.m. Eastern. The meetings are open to the public and there is no cost to attend.

If you need an accommodation because of a disability, or if you require additional information to attend the meeting, please contact Carlos M. Garay at (202) 366-6471 or carlos.garay@dot.gov.

Issued in Washington, DC, on this 5th day of November, 2009.
Peter M. Rogoff,
Administrator.

[FR Doc. E9-27107 Filed 11-6-09; 11:15 am]

BILLING CODE 4910-57-P